DEPARTMENT OF JUSTICE

Notice of Lodging of Consent Decree Pursuant to the Comprehensive Environmental Response Compensation and Liability Act (“CERCLA”)

Notice is hereby given that a proposed consent decree in United States v. Cabot Corp., et al, Civ. No. 00-cv-4265 (SMO) (D.N.J.), was lodged on August 31, 2000 with the United States District Court for the District of New Jersey. The Consent Decree concerns hazardous waste contamination at the King of Prussia Superfund Site (the “Site”), located on Piney Hollow Road in Winslow Township, New Jersey. The Consent Decree would resolve the liability for reimbursement of past response costs incurred by the United States in connection with the Site as to Cabot Corporation, Carpenter Technology Corporation; Ford Motor Company; Johnson Matthey Inc.; and Rutgers Organics Corporation against whom the United States filed a complaint on behalf of the United States Environmental Protection Agency (“EPA”). The Consent Decree requires the settling defendants to reimburse the EPA Hazardous Substance Superfund $1,700,000 for its past costs pertaining to the Site.

The Department of Justice will receive, for a period of thirty (30) days from the date of this publication, comments relating to the proposed consent decree. Comments should be addressed to the Assistant Attorney General, Environment and Natural Resources Division, P.O. Box 7611, U.S. Department of Justice, Washington, DC 20044-7611, and should refer to United States v. Cabot Corp., et al., DOJ Ref. #90-11-3-06970.

The proposed consent decree may be examined at the office of the United States Attorney for the District of New Jersey, 970 Broad Street, Room 502, Newark, New Jersey, 07102 (contact Assistant United States Attorney Susan Cassell); and the Region II Office of the Environmental Protection Agency, 290 Broadway, New York, New York 10007-1866 (contact Assistant Regional Counsel, Deborah Schwenk). A copy of the proposed consent decree may be obtained by mail from the Consent Decree Library, P.O. Box 7611, Washington, DC 20044-7611. In requesting a copy please refer to the referenced case and enclose a check in the amount of $8.25 (25 cents per page reproduction costs) for the Consent Decree without Appendices, or in the amount of $11.50 for the Consent Decree with all Appendices, payable to the Consent Decree Library.

Bruce S. Gelber,
Chief, Environmental Enforcement Section, Environment and Natural Resources Division.

[FR Doc. 00-27007 Filed 10-19-00; 8:45 am]

BILLING CODE 4410-15-M